DEPARTMENT OF HEALTH AND HUMAN SERVICES

Indian Health Service

The Special Diabetes Program for Indians Nashville Area Technical Assistance and Support Program

Announcement Type: New Single Source.

Funding Announcement Number: HHS-2023-IHS-SDPI-0002.

Assistance Listing (Catalog of Federal Domestic Assistance or CFDA) Number: 93.237.

Key Dates

Application Deadline Date: April 3, 2023.

Earliest Anticipated Start Date: April 18, 2023.

I. Funding Opportunity Description

Statutory Authority

The Indian Health Service (IHS) is accepting an application for a single source cooperative agreement with United South and Eastern Tribes, Inc. (USET) to continue the Special Diabetes Program for Indians (SDPI) Nashville Area technical assistance and support. These services are authorized under the Snyder Act, 25 U.S.C. 13; the Transfer Act, 42 U.S.C. 2001(a); and Section 330C of the Public Health Service Act, codified at 42 U.S.C. 254c-3. This program is described in the Assistance Listings located at https://sam.gov/content/home/ (formerly known as the CFDA) under 93.237.

Background

Diabetes is a complex and costly chronic disease that requires tremendous long-term efforts to prevent and treat. Although diabetes is a nationwide public health problem, American Indian and Alaska Native (AI/AN) people are disproportionately affected. In 2019, 14.5 percent of AI/AN people aged 18 years or older had diagnosed diabetes, compared to 7.4 percent of non-Hispanic white people [CDC, 2021. https://www.cdc.gov/diabetes/data/statistics-report/diagnosed-diabetes.html]. In addition, AI/AN people have higher rates of diabetes-related morbidity and mortality than the general U.S. population [O'Connell, 2010 (https://diabetesjournals.org/care/article/33/7/1463/39326/Racial-Disparities-in-Health-StatusA-comparison-of); Cho, 2014 (https://ajph.aphapublications.org/doi/full/10.2105/AJPH.2014.301968)]. Strategies to address the prevention and treatment of diabetes in AI/AN communities are urgently needed.

In response to the burgeoning diabetes epidemic among AI/AN people, Congress established the SDPI through the Balanced Budget Act of 1997. This grant program was developed to provide diabetes treatment and/or prevention activities and/or services (also referred to as “activities/services”) for AI/AN communities. There are currently 302 SDPI grant programs that are dispersed throughout each of the 12 IHS Areas. Each of the IHS Areas contain SDPI programs (primary grantees or subgrantees) that implement the mandatory requirements of the grant management process, including, but not limited to, the grant application, budgetary requirements, data collection/analysis, reporting, training, etc. Of the 12 IHS Areas, 9 of them have elected to fund a mechanism to provide technical support for their SDPI programs within their Area. Since the inception of SDPI, the Nashville Area, IHS, has received technical assistance and SDPI program support from USET via an SDPI grant mechanism. It has been determined that in 2023, support for the Nashville Area SDPI programs would need to be supported by USET via an IHS cooperative agreement.

Purpose

The purpose of this program is to allow USET to continue to provide technical assistance and SDPI program support for the SDPI grant programs in the Nashville Area. The focus of this assistance and support would be in the areas of grant management, program capacity building, budget development, and grant reporting to ensure the Nashville Area SDPI programs are meeting all of the grant requirements and deliverables in a timely manner. To do this, USET must meet the following objectives:

• Provide culturally-appropriate training and technical assistance to Nashville SDPI programs using diabetes-specific tools, the Resource and Patient Management System (RPMS), and other electronic health record (EHR) systems.

• Continue to refine and provide practical and innovative diabetes project tools.

• Build partnerships and collaboration for the expansion of resources and services to Tribal diabetes programs.

• Demonstrate and provide culturally appropriate training to Tribal programs on various Best Practices and topics, such as tobacco cessation, nutrition, physical activity, eye exams, motivational interviewing, Healthy Heart and Diabetes Prevention Program curricula, traditional foods/gardens, and motivational interviewing.

Required, Optional, and Allowable Activities

(1) Complete a needs assessment survey to help plan program activities and prioritize site visits throughout the Nashville Area, IHS.

(2) The project contracts diabetes program coordinators to offer technical assistance and training and discuss the site's needs.

(3) Responds to community meetings and health fairs invitations to gather community input on needs in conjunction with data and technical assistance.

(4) Technical assistance, site visits, and online video calls.

(5) Assistance with patient listings on the diabetes register.

(6) QMan, VGEN, PGEN, GEN RPMS reports for WebAudit, register cleanup, and interim audit reports.

(7) Audit logic assistance for diabetes indicators in RPMS EHR.

(8) Virtual and onsite sessions for training using Visual Diabetes Management System (DMS), QMan, and Patient Care Component (PCC) Management Reports.

(9) Provide a minimum of four RPMS training in the DMS and other electronic tools for managing patient information.

(a) This is a 2.5-to-3 day training session.

(i) Inclusive components are hands-on instruction in the Diabetes Management System package for the EHR in both the “roll and scroll” interface and the Visual DMS graphical user interface (GUI). Topics include: building and maintaining diabetes and pre-diabetes registers, editing patient information, and running register and quality assurance reports. Additional topics include:

(1) Using QMAN for custom searches to meet the needs that commonly arise for diabetes programs;

(2) Creating panels of patients in iCare; and

(3) Performing the annual IHS Diabetes Audit with WebAudit.

(a) Instruction is hands-on using a training server with mock patient data.

(10) Prepare and distribute Tribe-specific and aggregate summary reports.

(11) Provide additional data analysis and reports at the request of the Tribal diabetes programs.

(12) Reports include the “Diabetes Report,” an annual Nashville Area, IHS “Aggregate Report” summarizing the Annual Diabetes Care and Outcomes Audit.

(13) Modify current tools and materials utilized by the project in response to changing Tribal practices, software developments, and updated standards of care.

(14) Distribute the Diabetes Screening Toolkit to Tribes upon request for implementation of community diabetes screening.

(15) Host a series of quarterly “Best Practices” diabetes training.

(16) Expand related technical assistance and training services provided to Tribal diabetes programs.

Sole Source Justification

The USET is identified as a single source for this cooperative agreement. The USET has effectively supported the Nashville Area SDPI grant programs since the inception of SDPI (for 25 years). In the previous SDPI grant cycle, the USET supported the work of 24 tribes in implementing SDPI. They did this by helping SDPI grantees submit applications and reports to ensure grant requirements are completed and submitted on time. They have developed an expertise in this area and developed a unique relationship with the Nashville Area, IHS grantees. The USET has played a significant and unique role in supporting Tribes in implementing curative measures throughout the Nashville Area, IHS. Their technical assistance and support in grant management, program capacity building, budget development, and grant reporting is a catalyst for positive change in diabetes treatment and prevention interventions across the Nashville Area, IHS. In addition, they have offered Tribes administrative grant oversight and support, limiting strain on staff and allowing more focus on program development and community outreach. The IHS is interested in USET continuing this successful work to support the SDPI grantees in the Nashville Area, IHS with their unique expertise.

II. Award Information

Funding Instrument—Cooperative Agreement

Estimated Funds Available

The total funding identified for the first budget year, starting in fiscal year (FY) 2023 is approximately $130,001. The funding available for competing and subsequent continuation awards issued under this announcement is subject to the availability of appropriations and budgetary priorities of the Agency. The IHS is under no obligation to make an award that is selected for funding under this announcement.

Anticipated Number of Awards

One application will be accepted under this announcement for USET and only one award will be issued.

Period of Performance

The project period is for 5 years.

Cooperative Agreement

Cooperative agreements awarded by the Department of Health and Human Services (HHS) are administered under the same policies as grants. However, the funding agency, IHS, is anticipated to have substantial programmatic involvement in the project during the entire period of performance. Below is a detailed description of the level of involvement required of the IHS.

Substantial Agency Involvement Description for Cooperative Agreement

(1) Identify a core group of IHS staff to work with the awardee in providing technical assistance and guidance.

(2) Meet with the awardee to review awardee work plan and provide guidance on implementation, program evaluation, and data collection strategy and tools.

(3) Participate in quarterly conference calls. Work with the awardee to display the results of this project by publishing on shared websites as well as in jointly authored publications.

(4) Use the evidence-based program(s), framework(s), and data collection requirement(s) to develop an Evaluation Plan to collect national program aggregate and local evidence-based practice (EBP) fidelity data.

III. Eligibility Information

1. Eligibility

The award is offered as a single source cooperative agreement to the USET.

Note: Please refer to Section IV.2 (Application and Submission Information/Subsection 2, Content and Form of Application Submission) for additional proof of applicant status documents required, such as proof of nonprofit status, etc.

2. Cost Sharing or Matching

The IHS does not require matching funds or cost sharing for grants or cooperative agreements.

3. Other Requirements

If the application is submitted with a budget request that exceeds the highest dollar amount outlined under Section II Award Information, Estimated Funds Available, or exceeds the period of performance outlined under Section II Award Information, Period of Performance, it will be considered not responsive and will not be reviewed. The Division of Grants Management (DGM), IHS will notify the applicant.

The following documentation is required (if applicable):

Proof of Nonprofit Status

If the organization claims nonprofit status, it must submit a current copy of the 501(c)(3) Certificate with the application.

IV. Application and Submission Information

Grants.gov uses a Workspace model for accepting applications. The Workspace consists of several online forms and three forms in which to upload documents—Project Narrative, Budget Narrative, and Other Documents. Give your files brief descriptive names. The filenames are key in finding specific documents during the objective review and in processing awards. Upload all requested and optional documents individually, rather than combining them into a package. Creating a package creates confusion when trying to find specific documents. Such confusion can contribute to delays in processing awards, and could lead to lower scores during the objective review.

1. Obtaining Application Materials

The application package and detailed instructions for this announcement are available at https://www.Grants.gov.

Please direct questions regarding the application process to DGM@ihs.gov.

2. Content and Form Application Submission

Mandatory documents include:

• Application forms:

1. SF-424, Application for Federal Assistance.

2. SF-424A, Budget Information—Non-Construction Programs.

3. SF-424B, Assurances—Non-Construction Programs.

4. Project Abstract Summary form.

• Project Narrative (not to exceed 25 pages). See Section IV.2.A, Project Narrative for instructions.

• Budget Justification/Narrative (not to exceed 5 pages). See Section IV.2.B, Budget Narrative for instructions.

• 501(c)(3) Certificate, if applicable.

• Biographical sketches for all Key Personnel.

• Contractor/Consultant resumes or qualifications and scope of work.

• Disclosure of Lobbying Activities (SF-LLL), if applicant conducts reportable lobbying.

• Certification Regarding Lobbying (GG-Lobbying Form).

• Copy of current Negotiated Indirect Cost (IDC) rate agreement (required in order to receive IDC).

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 25 pages and must: (1) have consecutively numbered pages; (2) use black font 12 points or larger (applicants may use 10 point font for tables); (3) be single-spaced; and (4) be formatted to fit standard letter paper (8½ x 11 inches).

Do not combine this document with any others.

Be sure to succinctly answer all questions listed under the evaluation criteria (refer to Section V.1, Evaluation Criteria) and place all responses and required information in the correct section noted below or they will not be considered or scored. If the narrative exceeds the overall page limit, the application will be considered not responsive and will not be reviewed. The 25-page limit for the project narrative does not include the work plan, standard forms, budget, budget narratives, and/or other items. Page limits for each section within the project narrative are guidelines, not hard limits.

There are three parts to the narrative: Part 1—Program Information; Part 2—Program Planning and Evaluation; and Part 3—Organizational Capabilities. See below for additional details about what must be included in the narrative.

The page limits below are for each narrative and budget submitted.

Part 1: Program Information (Limit—5 Pages)

Section 1: Needs

Please provide a description of the need for assistance with offering this program. Applicant should demonstrate knowledge of: health concerns for AI/AN people in the Nashville Area, IHS; diabetes treatment and prevention activities in Tribal Nations; and working with Tribes and Tribal organizations that implement or have implemented an SDPI program.

Part 2: Program Planning and Evaluation (Limit—10 Pages)

Section 1: Program Plans

This section should demonstrate the soundness and effectiveness of the proposal. The work plan should be designed to describe how and when technical assistance and support will be provided to the Nashville Area SDPI programs; describe how the SDPI programs will be trained and supported throughout the grants management process; and describe how sites will be provided technical assistance with their data collection and analysis via their specific EHR.

Section 2: Program Evaluation

Describe the plan for collecting data, monitoring, and assuring quality and quantity of data and the plan for evaluating and reporting SDPI program results.

Part 3: Organizational Capabilities (Limit—10 Pages)

Describe the broader capacity of the organization to complete the project outlined in the work plan, including: (1) identification and biosketches for key personnel responsible for completing tasks; (2) description of the structure of the organization and chain of responsibility for successful completion of the project outline in the work plan; (3) description of financial and project management capacity, including information regarding similarly sized projects in scope and financial assistance as well as other grants and projects successfully completed; (4) description of national experience in providing administrative and support services to Tribal SDPI programs, education agencies, and other Tribal programs for the benefit of AI/AN people and Tribal communities (indicate experience in national partnerships or national support efforts on behalf of AI/AN communities especially as it pertains to health concerns); (5) description of equipment and space available for use during the proposed project; and (6) description of specialized experience working with SDPI programs.

B. Budget Narrative (Limit—5 Pages)

Provide a budget narrative that explains the amounts requested for each line item of the budget from the SF-424A (Budget Information for Non-Construction Programs) for the first year of the project. The applicant can submit with the budget narrative a more detailed spreadsheet than is provided by the SF-424A (the spreadsheet will not be considered part of the budget narrative). The budget narrative should specifically describe how each item will support the achievement of proposed objectives. Be very careful about showing how each item in the “Other” category is justified. Do NOT use the budget narrative to expand the project narrative.

3. Submission Dates and Times

The application must be submitted through Grants.gov by 11:59 p.m. Eastern Time on the Application Deadline Date. If the application is received after the application deadline it will not be accepted for review. Grants.gov will notify the applicant via email if the application is rejected.

If technical challenges arise and assistance is required with the application process, contact Grants.gov Customer Support (see contact information at https://www.Grants.gov). If problems persist, contact DGM by email at DGM@ihs.gov. Please be sure to contact DGM at least 10 days prior to the application deadline. Please do not contact the DGM until you have received a Grants.gov tracking number. In the event you are not able to obtain a tracking number, call the DGM as soon as possible.

The IHS does not acknowledge receipt of applications.

4. Intergovernmental Review

Executive Order 12372 requiring intergovernmental review is not applicable to this program.

5. Funding Restrictions

• Pre-award costs are not allowable.

• The available funds are inclusive of direct and indirect costs.

• Only one cooperative agreement may be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. You must submit your waiver request by email to DGM@ihs.gov. Your waiver request must include clear justification for the need to deviate from the required application submission process. The IHS will not accept any applications submitted through any means outside of Grants.gov without an approved waiver.

If the DGM approves your waiver request, you will receive a confirmation of approval email containing submission instructions. You must include a copy of the written approval with the application submitted to the DGM. An application that does not include a copy of the signed waiver from the DGM will not be reviewed. The Grants Management Officer of the DGM will notify the applicant via email of this decision. An application submitted under waiver must be received by the DGM no later than 5:00 p.m. Eastern Time on the Application Deadline Date. Late applications will not be accepted for processing. If the applicant does not register for both the System for Award Management (SAM) and Grants.gov and/or fails to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• The applicant is strongly encouraged not to wait until the deadline date to begin the application process through Grants.gov as the registration process for SAM and Grants.gov could take up to 20 working days.

• Please follow the instructions on Grants.gov to include additional documentation that may be requested by this funding announcement.

• The applicant must comply with any page limits described in this funding announcement.

• After submitting the application, you will receive an automatic acknowledgment from Grants.gov that contains a Grants.gov tracking number. The IHS will not notify you that the application has been received.

System for Award Management

An organization not registered with SAM must access the SAM online registration through the SAM home page at https://sam.gov. United States organizations will also need to provide an Employer Identification Number from the Internal Revenue Service that may take an additional 2 to 5 weeks to become active. Please see SAM.gov for details on the registration process and timeline. Registration with the SAM is free of charge but can take several weeks to process.

Applicants may register online at https://sam.gov.

Unique Entity Identifier

Your SAM.gov registration now includes a Unique Entity Identifier (UEI), generated by SAM.gov, which replaces the DUNS number obtained from Dun and Bradstreet. SAM.gov registration no longer requires a DUNS number. Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS awardees to report information on sub-awards. Accordingly, all IHS awardees must notify potential first-tier sub-awardees that no entity may receive a first-tier sub-award unless the entity has provided its UEI number to the prime awardee organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

A. Introduction and Need for Assistance (20 Points)

This section should demonstrate knowledge of health concerns and issues regarding AI/AN people in the Nashville Area, IHS; diabetes treatment and prevention activities in Tribal Nations; and working with Tribes and Tribal organizations that implement or have implemented an SDPI program.

B. Work Plan (30 Points)

This section should demonstrate a sound and effective annual work plan that will support accomplishment of deliverables and milestones of the SDPI Nashville Area Technical Assistance and Support Program.

The work plan should be designed to:

a. Describe how and when technical assistance and support will be provided to the Nashville SDPI programs;

b. Describe how the SDPI programs will be trained and supported throughout the grants management process; and

c. Describe how sites will be provided technical assistance with their data collection and analysis via their specific EHR.

C. Organizational Capabilities (40 Points)

This section should outline the broader capacity of the organization to complete the project outlined in the work plan. It includes the identification of personnel responsible for completing tasks and the chain of responsibility for successful completion of the project outline in the work plan. The section should:

a. Describe the structure of the organization.

b. Describe the ability of the organization to manage the proposed project and include information regarding similarly sized projects in scope and financial assistance as well as other grants and projects successfully completed.

c. Describe what equipment (i.e., phone, websites, etc.) and facility space (i.e., office space) will be available for use during the proposed project. Include information about any equipment not currently available that will be purchased throughout the agreement.

d. List and provide bios for key personnel who will work on the project.

e. The section should demonstrate knowledge in:

i. Providing administrative and support services to Tribal SDPI programs, education agencies, and other Tribal programs for the benefit of AI/AN people and Tribal communities (indicate experience in national partnerships or national support efforts on behalf of AI/AN communities especially as it pertains to health concerns);

ii. Financial and project management; and

iii. Local and national evaluation, including data collection and analysis.

D. Categorical Budget and Budget Justification (10 Points)

This section should provide a clear estimate of the project program costs and justification for expenses for the entire cooperative agreement period. The budget and budget justification should be consistent with the tasks identified in the work plan.

a. Categorical budget (Form SF-424A, Budget Information Non Construction Programs) completed for the first budget period.

b. Narrative justification for all costs, explaining why each line item is necessary or relevant to the proposed project. Include sufficient details to facilitate the determination of allowable costs.

c. Indication of any special start-up costs.

d. Budget justification should include a description of the planned costs and how they relate to or support the proposed project activities.

Additional documents can be uploaded as Other Attachments in Grants.gov. These can include:

• Work plan, and/or timeline for proposed objectives.

• Position descriptions for key staff.

• Resumes of key staff that reflect current duties.

• Consultant or contractor proposed scope of work and letter of commitment (if applicable).

• Current Indirect Cost Rate Agreement.

• Map of area identifying project location(s).

• Additional documents to support narrative (i.e., data tables, key news articles, etc.).

2. Review and Selection

Your application will be prescreened for eligibility and completeness as outlined in the funding announcement. An application that meets the eligibility criteria shall be reviewed for merit by the Objective Review Committee (ORC) based on evaluation criteria. If the application is incomplete or is not responsive to the administrative thresholds (budget limit, period of performance limit) will not be referred to the ORC and will not be funded. The program office will notify the applicant of this determination.

The applicant must address all program requirements and provide all required documentation.

3. Notifications of Disposition

The applicant will receive an Executive Summary Statement from the IHS Division of Diabetes Treatment and Prevention within 30 days of the conclusion of the ORC outlining the strengths and weaknesses of their application. The summary statement will be sent to the Authorizing Official identified on the face page (SF-424) of the application.

A. Award Notice for Funded Application

The Notice of Award (NoA) is the authorizing document for which funds are dispersed to the approved entity and reflects the amount of Federal funds awarded, the purpose of the award, the terms and conditions of the award, the effective date of the award, the budget period, and period of performance. The entity approved for funding must have a user account in GrantSolutions in order to retrieve the NoA. Please see the Agency Contacts list in Section VII for the systems contact information.

Note: Any correspondence, other than the official NoA executed by an IHS grants management official announcing to the project director that an award has been made to their organization, is not an authorization to implement their program on behalf of the IHS.

VI. Award Administration Information

1. Administrative Requirements

The award issued under this announcement is subject to, and is administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2021-title45-vol1/pdf/CFR-2021-title45-vol1-part75.pdf.

• Please review all HHS regulatory provisions for Termination at 45 CFR 75.372, at the time of this publication located at https://www.govinfo.gov/content/pkg/CFR-2021-title45-vol1/pdf/CFR-2021-title45-vol1-sec75-372.pdf.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E, at the time of this publication located at https://www.govinfo.gov/content/pkg/CFR-2021-title45-vol1/pdf/CFR-2021-title45-vol1-part75-subpartE.pdf.

E. Audit Requirements:

• Uniform Administrative Requirements for HHS Awards, “Audit Requirements,” at 45 CFR part 75 subpart F, at the time of this publication located at https://www.govinfo.gov/content/pkg/CFR-2021-title45-vol1/pdf/CFR-2021-title45-vol1-part75-subpartF.pdf.

F. As of August 13, 2020, 2 CFR 200 was updated to include a prohibition on certain telecommunications and video surveillance services or equipment. This prohibition is described in 2 CFR 200.216. This will also be described in the terms and conditions of every IHS grant and cooperative agreement awarded on or after August 13, 2020.

2. Indirect Costs

This section applies if the awardee requests reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Per 45 CFR 75.414(f) Indirect (F&A) costs, “any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.”

Electing to charge a de minimis rate of 10 percent can be used by applicants that have received an approved negotiated indirect cost rate from HHS or another cognizant Federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS awardees are negotiated with the Division of Cost Allocation at https://rates.psc.gov/ or the Department of the Interior (Interior Business Center) at https://ibc.doi.gov/ICS/tribal. For questions regarding the indirect cost policy, please call the Grants Management Specialist listed under “Agency Contacts” or write to DGM@ihs.gov.

3. Reporting Requirements

The awardee must submit required reports consistent with the applicable deadlines. Failure to submit required reports within the time allowed may result in suspension or termination of an active grant, withholding of additional awards for the project, or other enforcement actions such as withholding of payments or converting to the reimbursement method of payment. Continued failure to submit required reports may result in the imposition of special award provisions and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required annually. The progress reports are due within 30 days after the reporting period ends (specific dates will be listed in the NoA Terms and Conditions). These reports must include a brief comparison of actual accomplishments to the goals established for the period, a summary of progress to date or, if applicable, provide sound justification for the lack of progress, and other pertinent information as required. A final report must be submitted within 90 days of expiration of the period of performance.

B. Financial Reports

Federal Financial Reports are due 30 days after the end of each budget period, and a final report is due 90 days after the end of the period of performance. The awardee is responsible and accountable for reporting accurate information on all required reports: the Progress Reports and the Federal Financial Report.

Failure to submit timely reports may result in adverse award actions blocking access to funds.

C. Data Collection and Reporting

The SDPI Nashville Area Technical Assistance and Support Program will ensure that each SDPI grant program in the Nashville Area, IHS is following the data collection/reporting requirements:

SDPI Outcomes System (SOS) Required Key Measures (RKM) Data Requirements—Data for the selected Best Practice RKM will be submitted using the SOS. Awardees will submit results for their RKM for their selected Best Practice into this system at the start (baseline) and end (final) of the budget period, with the option to submit more frequently. The system will generate SOS RKM data reports to meet the SDPI outcomes reporting requirements. These results will be stored in the system and will be accessible to program staff, as needed. Awardees will need to appoint at least one person in their program to get access to and submit data into the SOS.

i. Baseline data: Data is to be submitted into the SOS by the last business day of February each year (e.g., 2023 baseline data will be by Tuesday, February 28, 2023). A report from the SOS showing baseline data submission will be due with continuation applications.

ii. Final data: Data for the prior budget period is to be submitted into the SOS by the last business day of January, each year (e.g., 2023 final data will be due by Wednesday, January 31, 2024). A report from the SOS showing baseline and final data submission will be due with the Annual Progress Report.

Refer to the SDPI website (https://www.ihs.gov/sdpi/) for the latest information on report templates, due dates, webinars and submission instructions.

Diabetes Care and Outcomes Audit Requirements—SDPI awardees are required to participate in the Annual Diabetes Audit (https://www.ihs.gov/diabetes/audit/). Awardees will submit data, review results, and provide a copy of their Annual Diabetes Audit Report with their annual SDPI applications. Diabetes Annual Audit data are to be submitted into the WebAudit each year around mid-March, (e.g., 2023 Audit data collecting annual data will be due approximately March 15, 2023). Non-clinical or community-based awardees, that are not able to directly participate in the Diabetes Audit, will need to obtain a copy of the Annual Diabetes Audit Report from their local facility or Area Diabetes Consultant (https://www.ihs.gov/diabetes/about-us/area-diabetes-consultants-adc/).

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for awardees of Federal grants to report information about first-tier sub-awards and executive compensation under Federal assistance awards. The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Non-Discrimination Legal Requirements for Awardees of Federal Financial Assistance

Should you successfully compete for an award, recipients of Federal financial assistance (FFA) from HHS must administer their programs in compliance with Federal civil rights laws, where applicable, that prohibit discrimination on the basis of race, color, national origin, disability, age and, in some circumstances, religion, conscience, and sex (including gender identity, sexual orientation, and pregnancy). This includes ensuring programs are accessible to persons with limited English proficiency and persons with disabilities. The HHS Office for Civil Rights provides guidance on complying with civil rights laws enforced by HHS. Please see https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/civil-rights/for-individuals/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

• Pursuant to 45 CFR 80.3(d), an individual shall not be deemed subjected to discrimination by reason of their exclusion from benefits limited by Federal law to individuals eligible for benefits and services from the IHS.

F. Federal Awardee Performance and Integrity Information System (FAPIIS)

The IHS is required to review and consider any information about the applicant that is in the FAPIIS at https://www.fapiis.gov/fapiis/#/home before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10 million for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award. All applicants and awardees must disclose in writing, in a timely manner, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Marsha Brookins, Director, 5600 Fishers Lane, Mail Stop: 09E47, Rockville, MD 20857, (Include “Mandatory Grant Disclosures” in subject line), Office: (301) 443-5204, Fax: (301) 594-0899, Email: DGM@ihs.gov

AND

U.S. Department of Health and Human Services, Office of Inspector General, ATTN: Mandatory Grant Disclosures, Intake Coordinator, 330 Independence Avenue SW, Cohen Building, Room 5527, Washington, DC 20201, URL: https://oig.hhs.gov/fraud/report-fraud/, (Include “Mandatory Grant Disclosures” in subject line), Fax: (202) 205-0604 (Include “Mandatory Grant Disclosures” in subject line), or Email: MandatoryGranteeDisclosures@oig.hhs.gov

Failure to make required disclosures can result in any of the remedies described in 45 CFR 75.371 Remedies for noncompliance, including suspension or debarment (see 2 CFR part 180 and 2 CFR part 376).

VII. Agency Contacts

1. Questions on the programmatic issues may be directed to:

Ms. Carmen Licavoli Hardin, Director, Indian Health Service, Division of Diabetes Treatment and Prevention, 5600 Fishers Lane, Mail Stop: 08N34A&B, Rockville, MD 20897, Phone: 1-844-IHS-DDTP (1-844-447-3387), Fax: 301-594-6213, Email: diabetesprogram@ihs.gov

2. Questions on grants management and fiscal matters may be directed to:

Indian Health Service, Division of Grants Management, 5600 Fishers Lane, Mail Stop: 09E47, Rockville, MD 20857, Email: DGM@ihs.gov

3. For technical assistance with Grants.gov, please contact the Grants.gov help desk at 800-518-4726, or by email at support@grants.gov.

VIII. Other Information

The Public Health Service strongly encourages all grant, cooperative agreement, and contract awardees to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

[FR Doc. 2023-03341 Filed 2-16-23; 8:45 am]

BILLING CODE 4165-16-P